DEPARTMENT OF ENERGY

Federal Energy Regulatory Commission

[Docket No. IC15-1-000]

Commission Information Collection Activities (FERC-598, FERC-716); Consolidated Comment Request; Extension

AGENCY: Federal Energy Regulatory Commission, DOE.

ACTION: Notice of information collections and request for comments.

SUMMARY: In compliance with the requirements of the Paperwork Reduction Act of 1995, 44 USC 3506(c)(2)(A), the Federal Energy Regulatory Commission (Commission or FERC) is soliciting public comment on the requirements and burden ¹ of the information collections described below.

¹ The Commission defines burden as the total time, effort, or financial resources expended by persons to generate, maintain, retain, or disclose or provide information to or for a Federal agency. For further explanation of what is included in the information collection burden, reference 5 Code of Federal Regulations 1320.3.

DATES: Comments on the collections of information are due January 16, 2015.

ADDRESSES: You may submit comments (identified by Docket No. IC15-1-000) by either of the following methods:

• eFiling at Commission's Web site: http://www.ferc.gov/docs-filing/efiling.asp

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-598, Self-Certification for Entities Seeking Exempt Wholesale Generator Status or Foreign Utility Company Status

OMB Control No.: 1902-0166.

Abstract: The Commission uses the data in the FERC-598 information collection to implement the statutory provisions of Title XII, subchapter F of the Energy Policy Act of 2005 (EPAct 2005).²

² Energy Policy Act of 2005, Public Law 109-58, 119 Stat. 594 (2005)

EPAct 2005 repealed the Public Utility Holding Company Act of 1935 (PUHCA 1935) in its entirety, and adopted in its place the Public Utility Holding Company Act of 2005 (PUHCA 2005). This change enabled the Commission to exempt from the requirements of PUHCA 2005 the holding companies that hold responsibility over wholesale generators from PUHCA 2005 on a case-by-case basis. The Commission amended its regulations (in Order No. 667 ³) to add procedures for self-certification by entities seeking exempt wholesale generator (EWG) and Foreign Utility Company (FUCO) status. This self-certification is similar to the process available to entities that seek qualifying facility status.

³ Repeal of the Public Utility Holding Company Act of 1935 and Enactment of the Public Utility Holding Company Act of 2005, 70 FR 75592 (2005), order on rehearing, Order 667-A, 71 FR 28446 (2006), order on rehearing, Order 667-B, 71 FR 42750 (2006), order on rehearing, Order 667-C, 118 FERC 61133 (2007).

An EWG is a “person engaged directly, or indirectly through one or more affiliates . . . and exclusively in the business of owning or operating, or both owning and operating, all or part of one or more eligible facilities and selling electric energy at wholesale.” ⁴ A FUCO is a company that “owns or operates facilities that are not located in any state and that are used for the generation, transmission, or distribution of electric energy for sale or the distribution at retail of natural or manufactured gas for heat, light, or power, if such company: (1) Derives no part of its income, directly or indirectly, from the generation, transmission, or distribution of electric energy for sale or the distribution at retail of natural or manufactured gas for heat, light, or power, within the United States; and (2) neither the company nor any of its subsidiary companies is a public-utility company operating in the United States.”

⁴ 18 CFR 366.1.

An EWG, FUCO, or its representative seeking to self-certify its status must file with the Commission a notice of self-certification demonstrating that it satisfies the definition of EWG or FUCO. In the case of EWGs, the person filing a notice of self-certification must also file a copy of the notice of self-certification with the state regulatory authority of the state in which the facility is located and that person must also represent to the Commission in its submission that it has filed a copy of the notice with the appropriate state regulatory authority.⁵

⁵ 18 CFR 366.7.

Submission of the information collected by FERC-598 is necessary for the Commission to carry out its responsibilities under EPAct 2005.⁶ The Commission implements its responsibilities through the Code of Federal Regulations (CFR) Title 18 Part 366. These filing requirements are mandatory for entities seeking to self-certify their EWG or FUCO status.

⁶ 42 U.S.C. 16451 et seq.

Type of Respondent: EWGs and FUCOs.

Estimate of Annual Burden: The Commission estimates the annual public reporting burden for the information collection as:

FERC-598 (Self-Certification for Entities Seeking Exempt Wholesale Generator Status or Foreign Utility Company Status)
| Number of respondents | Annual number of responses per respondent | Total number of responses | Average burden & cost per response ⁷ | Total annual burden hours & total annual cost | Cost per respondent ($)
| (1) | (2) | (1) * (2) = (3) | (4) | (3) * (4) = (5) | (5) ÷ (1)
EWGs/FUCOs | 102 | 1 | 102 | 6 $423 | 612 $43,146 | $423

FERC-716, Good Faith Requests for Transmission Service and Good Faith Responses by Transmitting Utilities Under Sections 211(a) and 213(a) of the Federal Power Act (FPA) ⁸

⁷ The estimates for cost per response are derived using the following formula: Average Burden Hours per Response * $70.50 per Hour = Average Cost per Response. The cost per hour figure is the FERC average salary plus benefits. Subject matter experts found that industry employment costs closely resemble FERC's regarding the FERC-598 information collection.

⁸ Previously titled “Transmission Services (Good Faith Request, Response by Transmitting Utility, and Application) under Sections 211 and 213a of the Federal Power Act”.

OMB Control No.: 1902-0170.

Abstract: The Commission uses the information collected under the requirements of FERC-716 to implement the statutory provisions of Sections 211 and Section 213 of the Federal Power Act as amended and added by the Energy Policy Act 1992. FERC-716 also includes the requirement to file a Section 211 request if the negotiations between the transmission requestor and the transmitting utility are unsuccessful. For the initial process, the information is not filed with the Commission. However, the request and response may be analyzed as a part of a Section 211 action. The Commission may order transmission services under the authority of FPA 211.

The Commission's regulations in the Code of Federal Regulations (CFR), 18 CFR 2.20, provide standards by which the Commission determines if and when a valid good faith request for transmission has been made under section 211 of the FPA. By developing the standards, the Commission sought to encourage an open exchange of data with a reasonable degree of specificity and completeness between the party requesting transmission services and the transmitting utility. As a result, 18 CFR 2.20 identifies 12 components of a good faith estimate and 5 components of a reply to a good faith request.

Type of Respondent: Transmission Requestors and Transmitting Utilities

Estimate of Annual Burden: The Commission estimates the annual public reporting burden for the information collection as:

⁹ The estimates for cost per response are derived using the following formula: Average Burden Hours per Response * $70.50 per Hour = Average Cost per Response. The cost per hour figure is the FERC average salary plus benefits. Subject matter experts found that industry employment costs closely resemble FERC's regarding the FERC-716 information collection.

FERC-716 (Good Faith Requests for Transmission Service and Good Faith Responses by Transmitting Utilities Under Sections 211(a) and 213(a) of the Federal Power Act (FPA))
| Number of respondents | Annual number of responses per respondent | Total number of responses | Average burden & cost per response ⁹ | Total annual burden hours & total annual cost | Cost per respondent ($)
| (1) | (2) | (1) * (2) = (3) | (4) | (3) * (4) = (5) | (5) ÷ (1)
Information exchange between parties | 3 | 1 | 3 | 100 $7050 | 300 $21,150 | $7050
Application submitted to FERC if parties' negotiations are unsuccessful | 3 | 1 | 3 | 2.5 $176.25 | 7.5 $528.75 | $176.25
Total |  |  | 6 |  | 307.5 $21,678.75 | $7,226.25

Dated: November 7, 2014.
Kimberly D. Bose,
Secretary.

[FR Doc. 2014-27056 Filed 11-14-14; 8:45 am]

BILLING CODE 6717-01-P